DEPARTMENT OF HOMELAND SECURITY

Coast Guard

[Docket No. USCG-2017-0158]

Information Collection Request to Office of Management and Budget; OMB; Control Number: 1625-0017

AGENCY: Coast Guard, DHS.

ACTION: Sixty-day notice requesting comments.

SUMMARY: In compliance with the Paperwork Reduction Act of 1995, the U.S. Coast Guard intends to submit an Information Collection Request (ICR) to the Office of Management and Budget (OMB), Office of Information and Regulatory Affairs (OIRA), requesting an extension of its approval for the following collection of information: 1625-0017, Various International Agreement Safety Certificates and Documents; without change. Our ICR describes the information we seek to collect from the public. Before submitting this ICR to OIRA, the Coast Guard is inviting comments as described below.

DATES: Comments must reach the Coast Guard on or before September 25, 2017.

ADDRESSES: You may submit comments identified by Coast Guard docket number [USCG-2017-0158] to the Coast Guard using the Federal eRulemaking Portal at http://www.regulations.gov. See the “Public participation and request for comments” portion of the SUPPLEMENTARY INFORMATION section for further instructions on submitting comments.

A copy of the ICR is available through the docket on the Internet at http://www.regulations.gov. Additionally, copies are available from: Commandant (CG-612), Attn: Paperwork Reduction Act Manager, U.S. Coast Guard, 2703 Martin Luther King Jr. Ave. SE., Stop 7710, Washington, DC 20593-7710.

FOR FURTHER INFORMATION CONTACT: Mr. Anthony Smith, Office of Information Management, telephone 202-475-3532, or fax 202-372-8405, for questions on these documents.

SUPPLEMENTARY INFORMATION:

Public Participation and Request for Comments

This Notice relies on the authority of the Paperwork Reduction Act of 1995; 44 U.S.C. Chapter 35, as amended. An ICR is an application to OIRA seeking the approval, extension, or renewal of a Coast Guard collection of information (Collection). The ICR contains information describing the Collection's purpose, the Collection's likely burden on the affected public, an explanation of the necessity of the Collection, and other important information describing the Collection. There is one ICR for each Collection.

The Coast Guard invites comments on whether this ICR should be granted based on the Collection being necessary for the proper performance of Departmental functions. In particular, the Coast Guard would appreciate comments addressing: (1) The practical utility of the Collection; (2) the accuracy of the estimated burden of the Collection; (3) ways to enhance the quality, utility, and clarity of information subject to the Collection; and (4) ways to minimize the burden of the Collection on respondents, including the use of automated collection techniques or other forms of information technology. In response to your comments, we may revise this ICR or decide not to seek an extension of approval for the Collection. We will consider all comments and material received during the comment period.

We encourage you to respond to this request by submitting comments and related materials. Comments must contain the OMB Control Number of the ICR and the docket number of this request, [USCG-2017-0158], and must be received by September 25, 2017.

Submitting Comments

We encourage you to submit comments through the Federal eRulemaking Portal at http://www.regulations.gov. If your material cannot be submitted using http://www.regulations.gov, contact the person in the FOR FURTHER INFORMATION CONTACT section of this document for alternate instructions. Documents mentioned in this notice, and all public comments, are in our online docket at http://www.regulations.gov and can be viewed by following that Web site's instructions. Additionally, if you go to the online docket and sign up for email alerts, you will be notified when comments are posted.

We accept anonymous comments. All comments received will be posted without change to http://www.regulations.gov and will include any personal information you have provided. For more about privacy and the docket, you may review a Privacy Act notice regarding the Federal Docket Management System in the March 24, 2005, issue of the Federal Register (70 FR 15086).

Information Collection Request

Title: Various International Agreement Safety Certificates and Documents.

OMB Control Number: 1625-0017.

Summary: These Coast Guard issued forms are used as evidence of compliance with the International Convention for Safety of Life at Sea, 1974 (SOLAS) by certain U.S. vessels on international voyages. Without the proper certificates or documents, a U.S. vessel could be detained in a foreign port.

Need: SOLAS applies to all mechanically propelled cargo vessels of 500 or more gross tons (GT), and to all mechanically propelled passenger vessels carrying more than 12 passengers that engage in international voyages. SOLAS and title 46 CFR 2.01-25 list certificates and documents that may be issued to vessels.

Forms: CG-967, Exemption Certificate; CG-968, Passenger Ship Safety Certificate; CG-968A, Record of Equipment for the Passenger Ship Safety Certificate (Form P); CG-969, Notice of Completion of Examination for Safety Certificate; CG-3347, Cargo Ship Safety Equipment Certificate; CG-3347B, Record of Equipment for the Cargo Ship Safety Equipment Certificate (Form E); CG-4359, Cargo Ship Safety Construction Certificate; CG-4360, International Ship Security Certificate; CG-4361, Interim International Ship Security Certificate; CG-5643, Safety Management Certificate; CG-5679, High-Speed Craft Safety Certificate; CG-5679A, Record of Equipment for High-Speed Craft Safety Certificate; CG-5680, Permit to Operate High-Speed Craft; CG-6038, Continuous Synopsis Record (CSR) Document Number __for the ship with IMO Number: __; CG-6038A, Amendments to the Continuous Synopsis Record (CSR) Document Number __for the ship with IMO Number:__.

Respondents: Owners and operators of SOLAS vessels.

Frequency: On occasion.

Hour Burden Estimate: The estimated burden has decreased from 94 hours to 90 hours a year due to a decrease in the estimated annual number of responses.

Authority: The Paperwork Reduction Act of 1995; 44 U.S.C. Chapter 35, as amended.

Dated: July 18, 2017.
Marilyn Scott-Perez,
U.S. Coast Guard, Chief, Office of Information Management.

[FR Doc. 2017-15802 Filed 7-26-17; 8:45 am]

BILLING CODE 9110-04-P